DEPARTMENT OF JUSTICE

Foreign Claims Settlement Commission

[FCSC Meeting and Hearing Notice No. 1-13]

Sunshine Act Meeting

The Foreign Claims Settlement Commission, pursuant to its regulations (45 CFR 503.25) and the Government in the Sunshine Act (5 U.S.C. 552b), hereby gives notice in regard to the scheduling of open meetings as follows:

Friday, January 25, 2013: 10:00 a.m.—Oral hearings on Objection to Commission's Proposed Decisions in Claim No. LIB-II-183; 11:00 a.m.—Claim No. LIB-II-058;

11:30 a.m.—Issuance of Proposed Decision in claims against Libya;

1:00 p.m.—Oral hearings on Objection to Commission's Proposed Decision in Claim No.—LIB-II-166.

Status: Open.

All meetings are held at the Foreign Claims Settlement Commission, 600 E Street NW., Washington, DC. Requests for information, or advance notices of intention to observe an open meeting, may be directed to: Judith H. Lock, Executive Officer, Foreign Claims Settlement Commission, 600 E Street NW., Suite 6002, Washington, DC 20579. Telephone: (202) 616-6975.

Jeremy R. LaFrancois,
Chief Administrative Counsel.

[FR Doc. 2013-00953 Filed 1-14-13; 4:15 pm]

BILLING CODE 4410-BA-P